DEPARTMENT OF JUSTICE

[OMB Number 1125-0002]

Agency Information Collection Activities; Proposed Collection eComments Requested; Revision and Extension of a Previously Approved Collection; Title—Notice of Appeal From a Decision of an Immigration Judge (Form EOIR-26)

AGENCY: Executive Office for Immigration Review, Department of Justice.

ACTION: 30-Day notice.

SUMMARY: The Executive Office for Immigration Review (EOIR), Department of Justice (DOJ), will be submitting the following information collection request (ICR) to the Office of Management and Budget (OMB) for review and approval in accordance with the Paperwork Reduction Act of 1995. The proposed information collection was previously published in the Federal Register on July 1, 2025, allowing a 60-day comment period. A correction to this notice was published in the Federal Register on July 23, 2025, and did not affect the 60-day comment period closing date.

DATES: Comments are encouraged and will be accepted for 30 days until October 9, 2025.

FOR FURTHER INFORMATION CONTACT: If you have comments especially on the estimated public burden or associated response time, suggestions, or need a copy of the proposed information collection instrument with instructions or additional information, please contact: Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0002. This ICR may be viewed at www.reginfo.gov. Follow the instructions to view Department of Justice information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision and extension of a previously approved collection.

2. Title of the Form/Collection: Notice of Appeal from a Decision of an Immigration Judge.

3. Agency form number, if any, and the applicable component of the Department of Justice sponsoring the collection: The agency form number is EOIR-26, and the sponsoring component is EOIR.

4. Affected public who will be asked or required to respond, as well as a brief abstract:

Affected Public: Parties to EOIR immigration proceedings, which includes individuals who are the subject of EOIR immigration proceedings as well as Department of Homeland Security (DHS), Immigration and Customs Enforcement (ICE).

Abstract: A party (either DHS ICE or the individual (Respondent/Applicant) who is the subject of the EOIR immigration proceeding) affected by a decision of an Immigration Judge may appeal that decision to the Board of Immigration Appeals (Board or BIA), provided the Board has jurisdiction pursuant to 8 CFR 1003.1. An appeal from an Immigration Judge's decision is taken by completing the Form EOIR-26 and submitting it to the Board. See 8 CFR 1003.3, 1003.38. The form requests information necessary for the Board to process an appeal of an Immigration Judge decision, such as the Respondent's/Applicant's name and alien registration number (A-number), the mailing addresses for parties and the attorney or representative of record, the basis for the appeal, and proof of service of the notice of appeal. EOIR is revising this form to implement several changes. Formatting and textual revisions were made throughout the form and instructions to improve organization, clarity, and readability. EOIR also updated references to online materials. Changes were made to clarify filing instructions for paper and electronic submissions, including filing fee changes enacted under the One Big Beautiful Bill Act (“OBBBA”) (H.R. 1), signed into law on July 4, 2025. EOIR removed references and collection of information pertaining to the BIA Pro Bono Project, which currently is not an active agency program. An option was added to the form for an appellant to specify that he or she is filing an interlocutory appeal from an Immigration Judge decision. Finally, EOIR added a field to collect the email address for the appellant's attorney or authorized representative.

5. Obligation to Respond: Required to obtain/retain the benefit of administratively appealing a decision of an Immigration Judge.

6. Total Estimated Number of Respondents: 45,473.

7. Estimated Time per Respondent: 30 minutes (0.5 hours).

8. Frequency: Once a year.

9. Total Estimated Annual Time Burden: 22,736 hours.

10. Total Estimated Annual Other Costs Burden: The total estimated annual public cost is $12,747,978. Of the total number of responses received annually, 12,487 responses are submitted by mail or hand delivery from respondents/applicants subject to the $1,010 filing fee requirement and 647 responses are submitted by mail or hand delivery from DHS ICE representatives exempted from the $1,010 filing fee requirement.

Cost | Individual | DHS ICE
Printing | $0.80 per response | $0.80 per response.
Postage | $10.10 per response | $10.10 per response.
Filing Fee | $1,010 per response | $0 per response.
Total per Response | $1,020.90 | $10.90.
Total for All Paper Responses Filed | $1020.90 × 12,487 = $12,747,978 | $10.90 × 647 = $7,052.

If additional information is required, contact: Darwin Arceo, Department Clearance Officer, Enterprise Portfolio Management, Justice Management Division, United States Department of Justice, Two Constitution Square, 145 N Street NE, 4W-218, Washington, DC 20530.

Dated: September 5, 2025.
Darwin Arceo,
Department Clearance Officer for PRA, U.S. Department of Justice.

[FR Doc. 2025-17277 Filed 9-8-25; 8:45 am]

BILLING CODE 4410-30-P